DEPARTMENT OF THE INTERIOR

National Park Service

[NPS-WASO-NAGPRA-22876; PPWOCRADN0-PCU00RP14.R50000]

Notice of Inventory Completion: U.S. Army Garrison Fort Leonard Wood, Pulaski County, MO

AGENCY: National Park Service, Interior.

ACTION: Notice.

SUMMARY: U.S. Army Garrison Fort Leonard Wood has completed an inventory of human remains and associated funerary objects, in consultation with the appropriate Indian tribes or Native Hawaiian organizations, and has determined that there is no cultural affiliation between the human remains and associated funerary objects and any present-day Indian tribes or Native Hawaiian organizations. Representatives of any Indian tribe or Native Hawaiian organization not identified in this notice that wish to request transfer of control of these human remains and associated funerary objects should submit a written request to Fort Leonard Wood. If no additional requestors come forward, transfer of control of the human remains and associated funerary objects to the Indian tribes or Native Hawaiian organizations stated in this notice may proceed.

DATES: Representatives of any Indian tribe or Native Hawaiian organization not identified in this notice that wish to request transfer of control of these human remains and associated funerary objects should submit a written request with information in support of the request to Fort Leonard Wood at the address in this notice by April 6, 2017.

ADDRESSES: Stephanie L. Nutt, Cultural Resources Program Coordinator, Natural Resources Branch, U.S. Army Garrison Fort Leonard Wood, IMLD-PWE, 8112 Nebraska Avenue, Building 11400, Fort Leonard Wood, MO 65473, telephone (573) 596-7607, email stephanie.l.nutt.ctr@mail.mil.

SUPPLEMENTARY INFORMATION: Notice is here given in accordance with the Native American Graves Protection and Repatriation Act (NAGPRA), 25 U.S.C. 3003, of the completion of an inventory of human remains and associated funerary objects under the control of Fort Leonard Wood, Pulaski County, MO. The human remains and associated funerary objects were removed from Fort Leonard Wood, Pulaski County, MO.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Fort Leonard Wood professional staff in consultation with representatives of the Kaw Nation, Oklahoma; Omaha Tribe of Nebraska; Ponca Tribe of Indians of Oklahoma; Ponca Tribe of Nebraska; The Osage Nation; and The Quapaw Tribe of Indians.

History and Description of the Remains

In the late 1970s, human remains representing, at minimum, one individual were removed from an unidentified site on Fort Leonard Wood property in Pulaski County, MO. The human remains were found by a pair of unidentified boys and were turned over to the Missouri Highway Patrol, who then delivered the human remains to the Fort Leonard Wood Museum. In 1998, they were turned over to the post archeologist who placed them with the rest of the Fort Leonard Wood archeological collections. The individual is of unknown antiquity due to the lack of archeological context. No known individuals were identified. No associated funerary objects are present.

In 1982, human remains representing, at minimum, one adult individual were removed from Wilson Cave on Fort Leonard Wood in Pulaski County, MO. The individual was collected by Environmental Consultants, Inc., during an excavation of Test Unit 2, levels 3 and 4, and a looter's backdirt pile at site 23PU152. The individual is of unknown antiquity, though diagnostic artifacts were found nearby from the periods between 6000-3000 B.C. and A.D. 900-1500., making the antiquity ambiguous. No known individuals were identified. No associated funerary objects are present.

In 1982, human remains representing, at minimum, one adult individual were removed from Deadman's Cave on Fort Leonard Wood in Pulaski County, MO. The individual was collected by Environmental Consultants, Inc., during an excavation at site 23PU207. The individual is of unknown antiquity, though diagnostic artifacts were found nearby from the periods between 3000-1000 B.C. and A.D. 500-1500., making the antiquity ambiguous. No known individuals were identified. No associated funerary objects are present.

In 1982, human remains representing, at minimum, three individuals, including one adult male and subadult, were removed from Davis Cave on Fort Leonard Wood in Pulaski County, MO. The individuals were collected by Environmental Consultants, Inc., during an excavation at site 23PU209. The individuals are of unknown antiquity due to disturbed archeological context, though diagnostic artifacts were found nearby from periods between 7800-1000 B.C. and A.D. 900-1500, making the antiquity ambiguous. No known individuals were identified. No associated funerary objects are present.

In 1982, human remains representing, at minimum, five individuals, including three subadults and two adults, were removed from Joy Cave on Fort Leonard Wood in Pulaski County, MO. The individuals were collected by Environmental Consultants, Inc., during an excavation at site 23PU210. The individuals are of unknown antiquity due to disturbed archeological context, though diagnostic artifacts were found nearby from periods between 7800-3000 B.C. and A.D. 900-1500 making the antiquity ambiguous. No known individuals were identified. No associated funerary objects are present.

In 1982, human remains representing, at minimum, two individuals, including one adult and one subadult of indeterminate gender, were removed from Davis Cave on Fort Leonard Wood in Pulaski County, MO. The individuals were collected on the surface by Environmental Consultants, Inc., during an excavation of site 23PU211. The individuals are of unknown antiquity due to the disturbed archeological context, though diagnostic artifacts were found nearby from periods between 7800-3000 B.C. and A.D. 900-1500, making the antiquity ambiguous. No known individuals were identified. No associated funerary objects are present.

Determinations Made by Fort Leonard Wood

Officials of Fort Leonard Wood have determined that:

• Pursuant to 25 U.S.C. 3001(9), the human remains described in this notice are Native American based on the context of their burials, relative dates of the burial sites, as well as physical condition of the remains.

• Pursuant to 25 U.S.C. 3001(9), the human remains described in this notice represent the physical remains of 13 individuals of Native American ancestry.

• Pursuant to 25 U.S.C. 3001(2), a relationship of shared group identity cannot be reasonably traced between the Native American human remains and associated funerary objects and any present-day Indian tribe.

• According to final judgments of the Indian Claims Commission or the Court of Federal Claims, the land from which the Native American human remains and associated funerary objects were removed is the aboriginal land of Kaw Nation, Oklahoma; Omaha Tribe of Nebraska; Ponca Tribe of Indians of Oklahoma; Ponca Tribe of Nebraska; The Osage Nation (previously listed as the Osage Tribe); and The Quapaw Tribe of Indians.

• Pursuant to 43 CFR 10.11(c)(1), the disposition of the human remains and associated funerary objects may be to the Kaw Nation, Oklahoma; Omaha Tribe of Nebraska; Ponca Tribe of Indians of Oklahoma; Ponca Tribe of Nebraska; The Osage Nation (previously listed as the Osage Tribe); and The Quapaw Tribe of Indians.

Additional Requestors and Disposition

Representatives of any Indian tribe or Native Hawaiian organization not identified in this notice that wish to request transfer of control of these human remains and associated funerary objects should submit a written request with information in support of the request to Stephanie L. Nutt, Cultural Resources Program Coordinator, Natural Resources Branch, U.S. Army Garrison Fort Leonard Wood, IMLD-PWE, 8112 Nebraska Avenue, Building 11400, Fort Leonard Wood, MO 65473, telephone (573) 596-7607, email stephanie.l.nutt.ctr@mail.mil, by April 6, 2017. After that date, if no additional requestors have come forward, transfer of control of the human remains and associated funerary objects to the Kaw Nation, Oklahoma; Omaha Tribe of Nebraska; Ponca Tribe of Indians of Oklahoma; Ponca Tribe of Nebraska; The Osage Nation (previously listed as the Osage Tribe); and The Quapaw Tribe of Indians may proceed.

Fort Leonard Wood is responsible for notifying the Kaw Nation, Oklahoma; Omaha Tribe of Nebraska; Ponca Tribe of Indians of Oklahoma; Ponca Tribe of Nebraska; The Osage Nation (previously listed as the Osage Tribe); and The Quapaw Tribe of Indians that this notice has been published.

Dated: February 7, 2017.
Melanie O'Brien,
Manager, National NAGPRA Program.

[FR Doc. 2017-04406 Filed 3-6-17; 8:45 am]

BILLING CODE 4312-52-P